DEPARTMENT OF DEFENSE

Department of the Navy

Notice of Public Meeting for the Draft Environmental Impact Statement for Military Readiness Activities at the Fallon Range Training Complex (FRTC), Nevada

AGENCY: Department of the Navy, DoD.

ACTION: Notice.

SUMMARY: Pursuant to Section 102(2)(c) of the National Environmental Policy Act (NEPA) of 1969 and regulations implemented by the Council on Environmental Quality (40 Code of Federal Regulations (CFR) parts 1500-1508), the Department of the Navy (DoN) has prepared and filed with the U.S. Environmental Protection Agency a Draft Environmental Impact Statement (EIS) to assess the potential environmental impacts of ongoing and proposed military training activities within the FRTC EIS Study Area. The Bureau of Land Management is a cooperating agency for this EIS.

With the filing of the Draft EIS, the DoN is initiating a 46-day public comment period beginning on January 23, 2015 and ending on March 9, 2015 and has scheduled a public meeting to inform the public and receive comments on the accuracy and adequacy of the Draft EIS. This notice announces the date and location of the public meeting and provides supplementary information about the environmental planning effort.

Dates and Addresses: The DoN will hold a public meeting to inform the public about the proposed action and alternatives under consideration and to provide an opportunity for the public to comment on the accuracy and adequacy of the environmental analysis presented in the Draft EIS. Federal, state, and local agencies and officials, Native American Indian Tribes and Nations, and interested organizations and individuals are encouraged to provide comments in person at the public meeting or in writing during the public review period.

A public meeting will be held between 5:00 p.m. and 7:00 p.m. on Thursday, February 19, 2015, at the Churchill County Commission Chambers, 155 North Taylor Street, Fallon, Nevada 89406. The public meeting will be an open house session with informational poster stations staffed by DoN representatives. A brief DoN presentation will be given at 5:30 p.m.

Attendees will be able to submit oral and written comments during the public meeting. Oral comments from the public will be recorded by a certified court reporter. Equal weight will be given to oral and written statements. Written comments may also be submitted to: Naval Facilities Engineering Command Southwest, Attention: Ms. Amy Kelley, Code EV21.AK; 1220 Pacific Highway, Building 1, 5th Floor; San Diego, CA 92132. Written comments may also be submitted electronically via the project Web site (www.FRTCEIS.com).

All comments submitted during the public review period, oral or written, will become part of the public record. All comments will be reviewed and responded to in the Final EIS. For consideration in the Final EIS, comments must be postmarked or received online by March 9, 2015.

FOR FURTHER INFORMATION CONTACT: Naval Facilities Engineering Command Southwest; Attention: Ms. Amy Kelley, Code EV21.AK; 1220 Pacific Highway Building 1, 5th Floor; San Diego, CA 92132.

SUPPLEMENTARY INFORMATION: The FRTC is a set of well-defined geographic training areas in the high desert of northern Nevada encompassing airspace, land ranges, and associated electronic systems used primarily for air and ground training activities. In total, the complex encompasses approximately 230,000 acres of training land and 12,256 square nautical miles of airspace. A portion of the FRTC, Naval Air Station (NAS) Fallon, is located six miles to the southeast of the city of Fallon. The land and airspace of the FRTC comprises the Study Area evaluated in the Draft EIS.

The DoN's Proposed Action is to continue and enhance ground and aviation training activities within the existing FRTC study area. To support training requirements for fleet readiness, the DoN proposes to adjust training activities from current levels to the levels needed to accommodate evolving mission requirements, including those resulting from training, tactics development, testing, and introduction of new aircraft and weapons systems into the fleet. A Notice of Intent to prepare this Draft EIS was published in the Federal Register on May 28, 2013 (78 FR 31909).

The purpose of the Proposed Action is to provide sustainable and modern airspace, range, maneuver areas, training facilities, and range infrastructure and resources to fully support training activities occurring within the FRTC in accordance with the assigned roles and missions for the Naval Strike and Air Warfare Center (NSAWC) and to provide ground training opportunities for other Services. The Proposed Action is needed to achieve and maintain military readiness by using the FRTC to support and conduct military readiness activities in compliance with the DoN's roles and responsibilities under Title 10 of the U.S. Code (U.S.C). To comply with its 10 U.S.C. 5062 mandates, the DoN needs to: (1) Maintain current levels of military readiness by enhancing training at the FRTC; (2) accommodate possible future increases in training activities at the FRTC; (3) accommodate training activities associated with force structure changes; and (4) maintain the long-term viability of the FRTC as a military training and testing range.

The Draft EIS evaluates the potential environmental effects of the following three alternatives:

1. No Action Alternative: Includes training activities of the same type, level of intensity, and frequency are currently conducted within the FRTC Study Area. The No Action Alternative provides a baseline against which the potential environmental impacts of the other action alternatives can be compared.

2. Alternative 1: In addition to baseline training activities, Alternative 1 includes an overall 6 percent increase in the types of training activities and the number of training events conducted within the FRTC Study Area, and includes force structure changes (e.g., new aircraft, weapons, or tactics). The increased activities are Combat Search and Rescue exercises, Gunnery Exercise (Air-to-Ground), High-speed Anti-radiation Missile Exercises, and Missile Exercises (Air-to-Ground). In addition, two activities formerly conducted at the FRTC, Ground LASER Targeting and Dismounted Fire and Maneuver, are included under Alternative 1 as new activities.

3. Alternative 2: Includes all elements of Alternative 1. In addition, training activities of the types currently conducted would be increased by 10 percent over levels identified in Alternative 1. This alternative is identified as the Preferred Alternative in the Draft EIS.

The Draft EIS provides an analysis of the potential environmental effects of the proposed action on the following resources: Soils; air quality; water quality; noise (airborne); biological resources; land use and recreation; socioeconomics, environmental justice and protection of children; transportation; cultural resources; and public health and safety. The results of the analysis indicate that implementation of the Preferred Alternative (Alternative 2) would result in no potentially significant environmental impacts for any resource area. Consultation with the Nevada State Historic Preservation Officer (SHPO) and Native American Tribes under Section 106 of the National Historic Preservation Act is pending.

The Draft EIS was distributed to federal, state, and local agencies and elected officials, Native American Indian Tribes and Nations, and other interested individuals and organizations. The Draft EIS is available for public electronic viewing or download at the project Web site at www.FRTCEIS.com. A paper copy of the Draft EIS may be reviewed at each of the following public libraries:

1. Austin Branch Library, 88 Main Street, Austin, NV 89310.

2. Carson City Library, 900 North Roop Street, Carson City, NV 89701.

3. Churchill County Library Annex, 507 South Maine Street, Fallon, NV 89406.

4. Crescent Valley Branch Library, 5045 Tenabo Avenue, Crescent Valley Town Center, Suite 103, Crescent Valley, NV 89821.

5. Eureka Branch Library, 80 South Monroe Street, Eureka, NV 89316.

6. Gabbs Community Library, 602 3rd Street, Gabbs, NV 89409.

A single compact disc of the Draft EIS will be made available upon written request.

(Authority: 35 U.S.C. 207, 37 CFR Part 404)

Dated: January 16, 2015.
N.A. Hagerty-Ford,
Commander, Judge Advocate General's Corps, U.S. Navy, Federal Register Liaison Officer.

[FR Doc. 2015-01121 Filed 1-22-15; 8:45 am]

BILLING CODE 3810-FF-P